DEPARTMENT OF COMMERCE

National Oceanic and Atmospheric Administration

Proposed Information Collection; Comment Request; Application for the NOAA Commissioned Corps

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 6, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to LCDR Holly Jablonski, (301) 713-7731 or Holly.Jablonski@noaa.gov.

SUPPLEMENTARY INFORMATION:

I. Abstract

The NOAA Commissioned Corps is the uniformed component of the National Oceanic and Atmospheric Administration (NOAA), a bureau of the Department of Commerce. Officers serve under Senate-confirmed appointments and Presidential commissions (33 U.S.C., Chapter 17, Subchapter 1, Sections 853 and 854). The NOAA Corps provides a cadre of professionals trained in engineering, earth sciences, oceanography, meteorology, fisheries science, and other related disciplines who are dedicated to the service of their country and optimization of NOAA's missions to ensure the economic and physical well-being of the Nation. NOAA Corps officers serve in assignments throughout NOAA, as well as in each of NOAA's Line Offices (National Environmental Satellite, Data, and Information Service, National Marine Fisheries Service, National Ocean Service, National Weather Service, Office of Oceanic and Atmospheric Research, and Office of Program, Planning, and Integration). Persons wishing to be considered for a NOAA Corps Commission must submit a complete application package, including NOAA Form 56-42, three letters of recommendation, and official transcripts. A personal interview must also be conducted. Eligibility requirements include a bachelor's degree in science, engineering, or another discipline related to NOAA's missions, excellent health, normal color vision with uncorrected visual acuity no worse than 20/400 in each eye (correctable to 20/20), and ability to complete 20 years of active duty service prior to their 62nd birthday.

II. Method of Collection

Respondents must submit paper forms via mail in postage-paid envelopes.

III. Data

OMB Control Number: 0648-0047.

Form Number: NOAA Forms 56-42, 56-42A, and 56-42D.

Type of Review: Regular submission.

Affected Public: Individuals or households.

Estimated Number of Respondents: 130.

Estimated Time Per Response: 3 hours.

Estimated Total Annual Burden Hours: 390.

Estimated Total Annual Cost to Public: $1,024.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 30, 2009.
Gwellnar Banks,
Management Analyst, Office of the Chief Information Officer.

[FR Doc. E9-2299 Filed 2-3-09; 8:45 am]

BILLING CODE 3510-22-P